GOVERNMENT ACCOUNTABILITY OFFICE

Comptroller General's Advisory Council on Government Auditing Standards; Notice of Meeting

The Comptroller General's Advisory Council on Government Auditing Standards will hold a meeting on Wednesday, September 21, 2022, from 10:00 a.m. to 1:30 p.m. to discuss updates and revisions to the Government Auditing Standards. The meeting will be virtual and is open to the public.

The agenda, discussion materials and teleconference information for the virtual meeting will be available at https://www.gao.gov/yellowbook approximately one week before the meeting. Any interested person may attend the meeting as an observer. Members of the public will be provided an opportunity to present questions to the Council during a brief period in the afternoon on matters directly related to the proposed update and revision.

Questions concerning the meeting may be emailed to YellowBook@gao.gov. For further information, please contact Roger Bradley, Senior Auditor, at 202-512-7069. To request a reasonable accommodation (RA) for this event, email GAO's RA office at ReasonableAccommodations@gao.gov. Please request all accommodations at least 5 business days prior to the event (by September 14th).

Authority: Pub. L. 67-13, 42 Stat. 20 (June 10, 1921).

James R. Dalkin,
Director, Financial Management and Assurance, U.S. Government Accountability Office.

[FR Doc. 2022-17466 Filed 8-12-22; 8:45 am]

BILLING CODE 1610-02-P